DEPARTMENT OF COMMERCE

Census Bureau

Agency Information Collection Activities; Submission to the Office of Management and Budget (OMB) for Review and Approval; Comment Request; Redistricting Data Program

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Redistricting Data Program (RDP) prior to the submission of the information collection request (ICR) to OMB for approval.

DATES: To ensure consideration, comments regarding this proposed information collection must be received on or before July 6, 2021.

ADDRESSES: Interested persons are invited to submit written comments by email to rdo@census.gov. Please reference “Redistricting Data Program (RDP)” in the subject line of your comments. You may also submit comments, identified by Docket Number USBC-2021-0010, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to James Whitehorne, Chief, Redistricting & Voting Rights Data Office, by phone 301-763-4039 or by email rdo@census.gov.

SUPPLEMENTARY INFORMATION:

I. Abstract

The U.S. Census Bureau is requesting a three-year clearance to continue the phases of the Redistricting Data Program (RDP). The current three-year RDP clearance and the project specific Office of Management and Budget (OMB) Control Number 0607-0988 will expire in November 2021. The new clearance allows the Census Bureau to provide RDP specific materials, burden hours, and procedures to fifty-two state liaisons to complete Phase 4: Collection of Post 2020 Census Redistricting Data Plans and Phase 5: Review of the 2020 Census RDP and Recommendations for the 2030 RDP. RDP is executed under the provisions of Title 13, Section 141(c) of the United States Code (U.S.C.).

Under the provisions of Public Law 94-171, as amended (Title 13, United States Code (U.S.C.), Section 141(c)), “[t]he officers or public bodies having initial responsibility for the legislative apportionment or districting of each State may, not later than 3 years before the decennial census date, submit to the Secretary a plan identifying the geographic areas for which specific tabulations of population are desired.” “Tabulations of population for the areas identified in any plan approved by the Secretary shall be completed by [her] as expeditiously as possible after the decennial census date and reported to the Governor of the State involved and to the officers or public bodies having responsibility for legislative apportionment or districting of such State, except that such tabulations of population of each State requesting a tabulation plan, and basic tabulations of population of each other State, shall, in any event, be completed, reported, and transmitted to each respective State within one year after the decennial census date.”

II. Method of Collection

The Census Bureau develops and uses different methods to collect data from program participants. The Census Bureau issued invitations letters by mail (U.S. Postal Service) and follow-up emails to the officers or public bodies having initial responsibility for legislative reapportionment and redistricting. Fifty-two states and state equivalents, including the District of Columbia and the Commonwealth of Puerto Rico, have identified non-partisan liaisons that are already working directly with the Census Bureau on the 2020 Census RDP.

Phase 1: Block Boundary Suggestion Project was conducted and completed in fiscal years 2015 through 2017.

Phase 2: The Voting District Project was conducted and completed in fiscal years 2018 through 2020.

Phase 3: Delivery of the 2020 Decennial Census Redistricting Data was originally scheduled for completion on April 1, 2021. Due to COVID-19-related delays and prioritizing the delivery of the apportionment results, the Census Bureau will deliver the redistricting data to all states and state equivalents as Legacy Format Summary File by August 16, 2021, and with the full redistricting data toolkit for easier access and use of the data by Sept. 30, 2021.

Phase 4: Collection of Post Census Redistricting Data Plans. Between January 2022 and July 2022, the Census Bureau will solicit from each state the newly drawn 118th Congressional Districts and State Legislative Districts. This effort will occur every two years in advance of the 2030 Census in order to update these boundaries with new or changed plans. A verification phase will occur with each update.

Phase 5: Review of the 2020 Census RDP and Recommendations for the 2030 Census RDP (2020 post-data collection). As the final phase of the 2020 Census RDP, the Census Bureau will work with the states to conduct a thorough review of the RDP. The intent of this review, and the final report that results, is to provide guidance to the Secretary and the Census Bureau Director in planning the 2030 Census RDP.

III. Data

OMB Control Number: 0607-0988.

Form Number(s): Phase 4 Yes/No Participation Form.

Type of Review: Regular submission, Request for a Revision of a Currently Approved Collection.

Affected Public: All fifty states, the District of Columbia, and the Commonwealth of Puerto Rico.

Estimated Number of Respondents: 52.

Estimated Time per Response:

Phase 4: 8 hours.

Phase 5: 2 hours.

Estimated Total Annual Burden Hours: 520 hours.

Phase 4: 416 hours.

Phase 5: 104 hours.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Public Law 94-171, as amended (Title 13, United States Code (U.S.C.), Section 141(c)).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-09673 Filed 5-6-21; 8:45 am]

BILLING CODE 3510-07-P